DEPARTMENT OF AGRICULTURE

Forest Service

Winema and Fremont National Forests Resource Advisory Committee

AGENCY: Forest Service, USDA.

ACTION: Notice of meeting.

SUMMARY: The Winema and Fremont Resource Advisory Committee will hold its first meeting on January 31-February 1, 2002. The meeting will be held in Room 20 at the Klamath County Courthouse, 316 Main Street, in Klamath Falls, Oregon. The meeting will begin at 9:30 AM and end at approximately 4:30 PM. both days. Day 1 agenda topics are: (1) Introductions; (2) Federal Advisory Committee Act (FACA) overview; (3) Resource Advisory Committee (RAC) Roles and Responsibilities; (4) RAC Rules and Bylaws; (5) RAC Guidebook Review; (6) RAC Communication; (7) Future meetings and agendas; (8) Project Process for submission; (9) County Update on Title III Projects; (10) Election of RAC Chairperson; and (11) Public comments. Day 2 will be devoted to a review of Title II projects submitted by the National Forests and making funding recommendations to the Secretary of Agriculture for fiscal year 2002 projects.

All Winema and Fremont Resource Advisory Committee Meetings are open to the public. Interested citizens are encouraged to attend.

FOR FURTHER INFORMATION CONTACT: Direct questions regarding this meeting to Bill Aney, Designated Federal Official, USDA, Paisley Ranger District, Fremont National Forest, PO Box 67, Paisley OR 97636 (541) 943-4401 or Chuck Graham, Forest Supervisor at (541) 947-2151 or 883-6714.

Dated: January 3, 2002.
Charles Graham,
Forest Supervisor, Winema and Fremont National Forests.

[FR Doc. 02-949 Filed 1-14-02; 8:45 am]

BILLING CODE 3410-11-M